SMALL BUSINESS ADMINISTRATION

Region V Regulatory Fairness Board; Public Federal Regulatory Enforcement Fairness Hearing

The Small Business Administration Region V Regulatory Fairness Board and the SBA Office of the National Ombudsman will hold a Public Hearing on Thursday, May 22, 2003 at 2 p.m. in the COSE conference room located at 200 Tower City Center, 50 Public Square, Cleveland, OH 44113-2291, to receive comments and testimony from small business owners, small government entities, and small non-profit organizations concerning regulatory enforcement and compliance actions taken by federal agencies.

Anyone wishing to attend or to make a presentation must contact Gilbert Goldberg in writing or by fax, in order to be put on the agenda. Gilbert Goldberg, District Director, U.S. Small Business Administration, Cleveland District Office, 1111 Superior Avenue East, Suite 630, Cleveland, OH 44114, phone (216) 522-4182, fax (216) 522-2038, e-mail gilbert.goldberg@sba.gov.

For more information, see our Web site at www.sba.gov/ombudsman.

Dated: May 5, 2003.
Michael L. Barrera,
National Ombudsman.

[FR Doc. 03-11599 Filed 5-8-03; 8:45 am]

BILLING CODE 8025-01-P